DEPARTMENT OF COMMERCE

National Oceanic and Atmospheric Administration

RIN 0648-XU76

Fisheries of the South Atlantic and the Gulf of Mexico; Southeastern Data, Assessment, and Review (SEDAR); Spiny Lobster

AGENCY: National Marine Fisheries Service (NMFS), National Oceanic and Atmospheric Administration (NOAA), Commerce.

ACTION: Notice of SEDAR Webinars and Workshop for South Atlantic and Gulf of Mexico spiny lobster.

SUMMARY: The SEDAR update of the assessment of the South Atlantic and Gulf of Mexico stock of spiny lobster will consist of a series of webinars and an Update Workshop. This assessment will update the stock assessment conducted under SEDAR 8. See SUPPLEMENTARY INFORMATION.

DATES: A Data Webinar will occur on March 23, 2010. Assessment Update Webinars will occur on June 22, July 13, and July 27, 2010. The Update Workshop will take place during August 23-25, 2010, and a follow-up webinar will occur on September 8, 2010. The Update Workshop location will be noticed at a later time. See SUPPLEMENTARY INFORMATION.

ADDRESSES: The Webinars may be attended by the public. Those interested in participating should contact Dale Theiling at SEDAR. See FOR FURTHER INFORMATION CONTACT to request an invitation providing webinar access information.

FOR FURTHER INFORMATION CONTACT: Dale Theiling, SEDAR Coordinator, 4055 Faber Place Drive, Suite 201, North Charleston, SC 29405; telephone: (843) 571-4366; email: dale.theiling@safmc.net.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. A full benchmark assessment conducted under SEDAR includes three workshops: (1) Data Workshop, (2) Stock Assessment Workshop Process and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Review Workshop Report documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; international experts; and staff of Councils, Commissions, and state and federal agencies.

SEDAR conducts updates of benchmark stock assessments previously conducted through the SEDAR program. Update assessments add additional data points to datasets incorporated in the original SEDAR benchmark assessment and run the benchmark assessment model to update population estimates. The spiny lobster update assessment will update the SEDAR 8 benchmark of Southeastern United States spiny lobster, which included both the South Atlantic and Gulf of Mexico. The update process consists of a series of webinars and an update workshop.

Spiny Lobster Update Process Schedule:

March 23, 2010; 10 a.m. - 12 p.m.; SEDAR Data Webinar

An updated assessment data set and associated documentation will be presented and discussed during the Data Webinar. Participants will evaluate updates of data employed or considered in SEDAR 8 providing information on life history characteristics, catch statistics, discard estimates, length and age composition, and fishery dependent and fishery independent measures of stock abundance.

June 22, July 13, and July 27, 2010; 10 a.m. - 12 p.m.; SEDAR Assessment Webinars

Using updated datasets adopted during the Data Webinar, participants will employ assessment models used in SEDAR 8 to evaluate stock status, estimate population benchmarks and management criteria, and project future conditions. Participants will recommend the most appropriate methods and configurations for determining stock status and estimating population parameters.

August 23-25, 2010; SEDAR Spiny Lobster Update Workshop

August 23, 2010: 1 p.m. - 8 p.m.; August 24, 2010: 8 a.m. - 8 p.m.; August 25, 2010: 8 a.m. - 1 p.m.

During the Update Workshop assessment analysts will discuss and evaluate decisions made during the Data and Assessment Webinars. Participants will compare and contrast various assessment approaches, and determine whether the assessments are adequate for submission to Science and Statistics Committees of the South Atlantic Fishery Management Council and the Gulf of Mexico Fishery Management Council. Workshop panelists will document their findings and recommendations in an Assessment Workshop Report.

Special Accommodations

The Update Workshop is physically accessible to people with disabilities. Requests for sign language interpretation or other auxiliary aids should be directed to the Council office (see ADDRESSES) at least 10 business days prior to the workshop.

Dated: February 25, 2010.
Tracey L. Thompson,
Acting Director, Office of Sustainable Fisheries, National Marine Fisheries Service,

[FR Doc. 2010-4299 Filed 3-1-10; 8:45 am]

BILLING CODE 3510-22-S